DEPARTMENT OF THE INTERIOR

Bureau of Reclamation

[RR02800000, 22XR0680A1, RX.17868949.0000000]

Notice of Intent To Prepare an Environmental Impact Statement and Hold Public Scoping Meetings on the 2021 Endangered Species Act Reinitiation of Section 7 Consultation on the Long-Term Operation of the Central Valley Project and State Water Project

AGENCY: Bureau of Reclamation, Interior.

ACTION: Notice of intent; request for comments.

SUMMARY: The Bureau of Reclamation intends to prepare an Environmental Impact Statement (EIS) for analyzing potential modifications to the Long-Term Operation of the Central Valley Project (CVP) and the State Water Project (SWP). The authorized purposes of the CVP include, first, river regulation, improvement of navigation and flood control; second, irrigation and domestic uses and fish and wildlife mitigation, protection and restoration; and third, power and fish and wildlife enhancement. Reclamation is seeking suggestions and information on the alternatives and topics to be addressed and other important issues related to multi-year operations of the CVP and SWP.

DATES: Submit written comments on the scope of the EIS on or before March 30, 2022.

Reclamation will hold virtual public scoping meetings at the following dates and times. The virtual public scoping meetings are identified geographically; however, virtual attendance is open at all meetings. Comments during the scoping meetings will be recorded. If you do not wish to be recorded, you may submit written comments to the mailing address or email address below

1. Tuesday, March 8, 2022, 2 p.m. to 4 p.m., Sacramento, CA, virtual meeting.

2. Wednesday, March 9, 2022, 5:30 p.m. to 7:30 p.m., Red Bluff, CA, virtual meeting.

3. Thursday, March 10, 2022, 2 p.m. to 4 p.m., Fresno, CA, virtual meeting.

4. Tuesday, March 15, 2022, 5:306 p.m. to 7:30 p.m., Los Banos, CA, virtual meeting.

5. Wednesday, March 16, 2022, 2 p.m. to 4 p.m., Tracy, CA, virtual meeting.

6. Thursday, March 17, 2022, 2 p.m. to 4 p.m., Chico, CA, virtual meeting.

Information on participation will be posted at www.usbr.gov/mp/bdo by the day prior to the meeting.

ADDRESSES: Send written scoping comments, requests to be added to the mailing list, or requests for other special assistance needs to Cindy Meyer, Bureau of Reclamation, Bay-Delta Office, 801 I Street, Suite 140, Sacramento, CA 95814-2536; or by email to sha-MPR-BDO@usbr.gov.

To attend the virtual meetings, please go to www.usbr.gov/mp/bdo to find the web links to specific meetings dates.

FOR FURTHER INFORMATION CONTACT: Cindy Meyer, Bureau of Reclamation, Bay-Delta Office, 801 I Street, Suite 140, Sacramento, CA 95814-2536; telephone (916) 414-2425; email sha-MPR-BDO@usbr.gov. Persons who use a telecommunications device for the deaf may call the Federal Relay Service (FedRelay) at 1-800-877-8339 TTY/ASCII to contact the above individual during normal business hours or to leave a message or question after hours. You will receive a reply during normal business hours.

SUPPLEMENTARY INFORMATION:

Purpose and Need for the Proposed Action

Reclamation operates the CVP and the California Department of Water Resources (DWR) operates the SWP, under the 1986 Coordinated Operation Agreement, as amended in 2018, between the federal government and the State of California, as authorized by Public Law 99-546. A February 18, 2020, Record of Decision (2020 ROD) implements the Proposed Action consulted upon for 2019 Biological Opinions from the U.S. Fish and Wildlife Service (USFWS) and National Marine Fisheries Service (NMFS). On September 30, 2021, Reclamation requested to reinitiate consultation on the Long-Term Operation of the CVP and SWP under section 7 of the Endangered Species Act (ESA) due to anticipated modifications to the previous Proposed Action that may cause effects to ESA-listed species or designated critical habitat not analyzed in the current 2019 Biological Opinions. Modifications would address the review of the 2019 Biological Opinions required by Executive Order 13990 Protecting Public Health and the Environment and Restoring Science to Tackle the Climate Crisis, and voluntarily reconcile CVP operating criteria with requirements of the SWP under the California Endangered Species Act.

The purpose of the proposed action considered in this EIS is to continue the operation of the CVP and the SWP, for authorized purposes, in a manner that:

• Meets requirements under Federal Reclamation law; other Federal laws and regulations; Federal permits and licenses; and State of California water rights, permits, and licenses pursuant to section 8 of the Reclamation Act;

• Satisfies Reclamation contractual obligations and agreements; and

• Implements authorized CVP fish and wildlife project purposes.

Operation of the CVP and SWP is needed to provide flood control and navigation; water supply; fish and wildlife mitigation, protection, and restoration and enhancement; and power generation. Operation of the CVP and SWP also provides recreation and water quality benefits.

Project Area (Area of Analysis)

The project area includes CVP service areas and CVP dams, power plants, diversions, canals, gates, and related Federal facilities located on Clear Creek; the Trinity, Sacramento, American, Stanislaus, and San Joaquin rivers; and in the Sacramento-San Joaquin Delta (Delta).

• A portion of the water from the Trinity River Basin is stored in Trinity Lake behind Trinity Dam, re-regulated in Lewiston Lake, and diverted through a system of tunnels and powerplants into Whiskeytown Reservoir on Clear Creek and then into the Sacramento River through Spring Creek upstream of Keswick Dam. Water is also released from Lewiston Dam to the Trinity River where it flows to the Klamath River.

• A portion of the water from the upper Sacramento River is stored in Shasta Reservoir and re-regulated in Keswick Reservoir. Water in Shasta may be diverted at Shasta Dam or released into the Sacramento River. Water from the upper Sacramento, imports from the Trinity River Basin, releases from other reservoirs owned or operated by local agencies, and other inflows enter the Sacramento River and may be diverted into the Tehama-Colusa and Corning canals at the Red Bluff Pumping Plant.

• A portion of the water from the American River is stored in Folsom Reservoir and re-regulated in Lake Natoma. Water in Folsom Reservoir may be diverted at Folsom Dam, be diverted into the Folsom South Canal, or be released into the American River.

• A portion of the water from the Stanislaus River is stored in New Melones Reservoir. Water in New Melones may be released into the Stanislaus River.

• A portion of the water from the upper San Joaquin River is stored in Millerton Reservoir behind Friant Dam. Water is diverted into the Madera and Friant-Kern canals or released into the San Joaquin River.

• The Sacramento River and San Joaquin River carry water to the Delta. As water moves down the mainstem of the Sacramento River, gates at the Delta Cross Channel are operated for water quality and flood management.

• Water in the Delta may be pumped into the Contra Costa Canal at Rock Slough and delivered to Contra Costa Water District. The C.W. Bill Jones Pumping Plant is at the southern end of the Delta, lifting water into the Delta Mendota Canal (DMC). CVP water is conveyed in the DMC for direct diversion or for delivery to San Luis Reservoir. Water from the San Luis Reservoir is also conveyed through the San Luis Canal and Pacheco Tunnel. The DMC-California Aqueduct Intertie connects the CVP and SWP conveyance facilities after export from the Delta. Prior to the Jones Pumping Plant, the Tracy Fish Collection Facility salvages salmonids and other species.

The project area includes SWP service areas downstream of the Feather River and SWP facilities in the Sacramento-San Joaquin Delta, Cache Slough Complex, and Suisun Marsh. Feather River operations of Lake Oroville and Oroville Dam are not addressed as part of this consultation.

• In the Cache Slough Complex the Barker Slough Pumping Plant lifts water into the North Bay Aqueduct.

• In Montezuma Slough, the Suisun Marsh Salinity Control Gates are tidally operated to maintain fresh water in Montezuma Slough and the Suisun Marsh.

• The Harvey O. Banks Pumping Plant at the southern end of the Delta, behind Clifton Court Forebay, lifts water into the California Aqueduct, which conveys water to the San Luis Reservoir for storage and to the South Bay Aqueduct for deliveries to the SWP contractors. The DMC-California Aqueduct Intertie connects the CVP and SWP conveyance facilities after export from the Delta. Prior to the Banks Pumping Plant, the Skinner Delta Fish Protection Facility salvages salmonids and other species.

• The SWP also pumps water through the Harvey O. Banks Pumping Plant and conveys it through the California Aqueduct to the Cross-Valley Canal, when the systems have capacity, for CVP water service contractors.

Proposed Action and Preliminary Alternatives To Be Considered

The EIS will consider a range of reasonable alternatives, consistent with 40 CFR 1502.14, including a No Action Alternative that would continue implementation of the 2020 ROD. Reasonable alternatives may include combinations of operation of CVP and SWP facilities and diversions, construction actions, habitat restoration, conservation hatchery practices, and monitoring and special studies. Reasonable alternatives may support consultation for actions by Sacramento River Settlement Contractors. Reasonable alternatives may include DWR operations for new storage projects. Reclamation is considering operation of the CVP and SWP under conditions of:

• Potential hydrologic and meteorologic climate change through 2040 including changes in precipitation, air temperatures, and sea level;

• Potential new storage, conveyance, and other water supply infrastructure;

• Potential implementation of voluntary agreements for the update of the Bay-Delta Water Quality Control Plan;

• Potential responses to drier years and drought conditions such as water transfers and temporary urgency change petitions; and

• Potential needs for new and adapted monitoring programs to address current and future information needs.

Each action alternative will fulfill the requirements of the need for the project as described in the “Purpose and Need for Action” section. Certain components of alternatives may be described programmatically and be subject to further compliance. The Final EIS will identify an agency-preferred alternative. Reclamation will consider reasonable alternatives identified through the National Environmental Policy Act (NEPA) scoping process and through the input required by Section 4004 of the Water Infrastructure Improvements for the Nation Act, Public Law 114-322.

Summary of Potential Impacts

The EIS will identify and describe reasonably foreseeable potential effects on the human environment from a reasonably close causal relationship. Effects include those occurring at the same time and place and those occurring later in time or at a different place (whether beneficial or adverse). Potential impacts areas include surface water supply, water quality, groundwater resources, air quality, greenhouse gas emissions, visual resources, aquatic resources, terrestrial biological resources, regional economics, land use and agricultural resources, recreation, hazards and hazardous materials, cultural resources, geology and soils, and climate change.

Reclamation expects to analyze flow management, temperature management, habitat, interactions with CVP and SWP facilities, conservation hatchery practices, and monitoring needs. Reclamation expects these actions to result in incidental take that requires consultation due to the potential to affect ESA-listed species. Reclamation intends to pursue the conference process for Longfin Smelt. Reclamation also anticipates analyzing differences in water supply deliveries and surplus power generation. The EIS will analyze measures that would avoid, minimize, or mitigate adverse environmental effects.

Statutory Authority and Anticipated Permits

NEPA [42 U.S.C. 4321 et seq.] requires that Federal agencies conduct an environmental analysis of their proposed actions to determine if the actions may significantly affect the human environment. The EIS will analyze the environmental effects that may result from the implementation of the proposed action and alternatives. In addition to NEPA, various other Federal, state, and local authorizations may be required for the Proposed Action. Applicable Federal laws include, but are not limited to, ESA, Magnuson‐Stevens Fishery Conservation and Management Act, National Historic Preservation Act, and Clean Water Act.

Schedule for the Decision-Making Process

Reclamation will review and consider comments received during scoping and will prepare a scoping report. After the draft EIS is completed, anticipated in 2023, Reclamation will publish a notice of availability (NOA) and request public comments on the draft EIS. After the public comment period ends, Reclamation will then develop the final EIS and anticipates making the final EIS available to the public in 2024. In accordance with 40 CFR 1506.11, Reclamation will not make a decision or issue a Record of Decision (ROD) sooner than 30 days after the final EIS is released. Reclamation anticipates the issuance of a ROD by October 2024.

NEPA Cooperating Agencies

Reclamation will request the following Federal agencies to participate as cooperating agencies in accordance with the NEPA:

• USFWS,

• NMFS,

• Western Area Power Administration,

• U.S. Army Corps of Engineers; and

• U.S. Environmental Protection Agency.

Reclamation may invite additional Federal, state, and local agencies (e.g., DWR, California Department of Fish and Wildlife, State Water Resources Control Board, Public Water Agencies) as potential cooperating agencies.

Indian Trust Assets and Environmental Justice

Reclamation will consult with federally recognized Indian tribes in the project area to request their input regarding the identification of any properties to which they might attach religious and cultural significance to within the area of potential effect. Once these areas are determined, Reclamation will enter government-to-government consultations with potentially affected tribes to identify and address concerns for Indian Trust Assets. There are Indian Trust Assets affected by the Trinity River Division and the potential impacts of CVP operation on those assets will be examined in the EIS. The EIS will examine the potential impacts to environmental justice issues throughout the project area.

Public Disclosure

Before including your address, phone number, email address or other personal identifying information in your comment, you should be aware that your entire comment, including your personal identifying information, may be made publicly available at any time. While you can ask us in your comment to withhold your personal identifying information from public review, we cannot guarantee that we will be able to do so. Speakers during scoping meetings are recorded.

How To Request Reasonable Accommodation

For special assistance at one of the scoping meetings, please contact Cindy Meyer (above) or TDD 916-978-5608, at least five working days before the meetings. Information regarding this proposed action is available in alternative formats upon request.

Ernest Conant,
Regional Director, California Great Basin Region.

[FR Doc. 2022-04160 Filed 2-25-22; 8:45 am]

BILLING CODE 4332-90-P